ENVIRONMENTAL PROTECTION AGENCY

[EPA-HQ-OPP-2009-0802; FRL-8798-4]

Notice of Receipt of a Pesticide Petition Filed for Residues of a Pesticide Chemical in or on Various Commodities; Reopening of Comment Period

AGENCY: Environmental Protection Agency (EPA).

ACTION: Notice; reopening of comment period.

SUMMARY: EPA issued a notice in the Federal Register of October 21, 2009, announcing the Agency's receipt of an initial filing of a pesticide petition proposing the establishment/modification of regulations for residues of the biochemical pesticide 2,6-diisopropylnaphthalene (2,6-DIPN) in or on various food commodities. This document reopens the comment period until November 16, 2009.

DATES: Comments, identified by docket identification (ID) number EPA-HQ-OPP-2009-0802, must be received on or before November 16, 2009.

ADDRESSES: Follow the detailed instructions as provided under ADDRESSES in the Federal Register document of October 21, 2009.

FOR FURTHER INFORMATION CONTACT: Leonard Cole, Biopesticides and Pollution Prevention Division, Office of Pesticide Programs, Environmental Protection Agency, 1200 Pennsylvania Ave., NW., Washington, DC 20460-0001; telephone number: (703) 305-5412; e-mail address: cole.leonard@epa.gov.

SUPPLEMENTARY INFORMATION: This document reopens the public comment period established in the Federal Register of October 21, 2009 (74 FR 54043) (FRL-8795-7). EPA is hereby reopening the comment period, which was originally scheduled to end on November 2, 2009, to November 16, 2009.

To submit comments, or access the docket, please follow the detailed instructions as provided under ADDRESSES in the October 21, 2009 Federal Register document. If you have questions, consult the person listed under FOR FURTHER INFORMATION CONTACT.

List of Subjects

Environmental protection, Agricultural commodities, Feed additives, Food additives, Pesticides and pests, Reporting and recordkeeping requirements.

Dated: November 2, 2009.
Keith A. Matthews,
Acting Director, Biopesticides and Pollution Prevention Division, Office of Pesticide Programs.

[FR Doc. E9-26842 Filed 11-5-09; 8:45 am]

BILLING CODE 6560-50-S